SECURITIES AND EXCHANGE COMMISSION

[File No. 500-1]

V-GPO, Inc., Valesc Holdings, Inc., Venture Stores, Inc., Vertigo Theme Parks, Inc. (f/k/a Snap2 Corp.), Videolan Technologies, Inc., VisionGateway, Inc., Vital Health Technologies, Inc. (n/k/a Caribbean American Health Resorts), and VoiceNet, Inc.; Order of Suspension of Trading

April 20, 2010.

It appears to the Securities and Exchange Commission that there is a lack of current and accurate information concerning the securities of V-GPO, Inc. because it has not filed any periodic reports since the period ended September 30, 2006.

It appears to the Securities and Exchange Commission that there is a lack of current and accurate information concerning the securities of Valesc Holdings, Inc. because it has not filed any periodic reports since the period ended June 30, 2003.

It appears to the Securities and Exchange Commission that there is a lack of current and accurate information concerning the securities of Venture Stores, Inc. because it has not filed any periodic reports since the period ended October 25, 1997.

It appears to the Securities and Exchange Commission that there is a lack of current and accurate information concerning the securities of Vertigo Theme Parks, Inc. (f/k/a Snap2 Corp.) because it has not filed any periodic reports since the period ended June 30, 2005.

It appears to the Securities and Exchange Commission that there is a lack of current and accurate information concerning the securities of Videolan Technologies, Inc. because it has not filed any periodic reports since the period ended September 30, 1997.

It appears to the Securities and Exchange Commission that there is a lack of current and accurate information concerning the securities of VisionGateway, Inc. because it has not filed any periodic reports since the period ended July 31, 2007.

It appears to the Securities and Exchange Commission that there is a lack of current and accurate information concerning the securities of Vital Health Technologies, Inc. (n/k/a Caribbean American Health Resorts) because it has not filed any periodic reports since the period ended September 30, 2007.

It appears to the Securities and Exchange Commission that there is a lack of current and accurate information concerning the securities of VoiceNet, Inc. because it has not filed any periodic reports since the period ended September 30, 2001.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on April 20, 2010, through 11:59 p.m. EDT on May 3, 2010.

By the Commission.
Jill M. Peterson,
Assistant Secretary.

[FR Doc. 2010-9455 Filed 4-20-10; 4:15 pm]

BILLING CODE 8011-01-P